DEPARTMENT OF LABOR

Employment and Training Administration

[TA-W-51,247 and TA-W-51,247B]

Agilent Technologies, Electronic Products and Solutions Group, Rohnert Park, California; Agilent Technologies, Electronic Products and Solutions Group, Andover, Massachusetts; Amended Certification Regarding Eligibility To Apply for Worker Adjustment Assistance

In accordance with section 223 of the Trade Act of 1974 (19 U.S.C. 2273), as amended, the Department of Labor issued a Certification of Eligibility to Apply for Worker Adjustment Assistance on May 5, 2003, applicable to workers of Agilent Technologies, Electronic Products and Solutions Group located in Rohnert Park, California. The notice was published in the Federal Register on May 19, 2003 (68 FR 27107).

At the request of petitioners, the Department reviewed the certification for workers of the subject firm. New information shows that worker separations have occurred involving employees of Agilent Technologies, Electronic Products and Solutions Group, Rohnert Park, California working in Andover, Massachusetts. These employees provide support services for the production of test and measurement equipment and subassemblies produced by the firm.

It is the Department's intent to cover all workers of the firm impacted by the shift in production from Agilent Technologies, Electronic Products and Solutions Group, Rohnert Park, California to Malaysia. Accordingly, the Department is amending the certification to extend coverage to employees of Agilent Technologies, Electronic Products and Solutions Group, Rohnert Park, California, working in Andover, Massachusetts.

The amended notice applicable to TA-W-51,247 is hereby issued as follows:

All workers of Agilent Technologies, Electronic Products and Solutions Group, Rohnert Park, California (TA-W-51,247), and Agilent Technologies, Electronic Products and Solutions Group, Andover, Massachusetts (TA-W-51,247B), who became totally or partially separated from employment on or after March 13, 2002, through May 5, 2005, are eligible to apply for adjustment assistance under Section 223 of the Trade Act of 1974.

Signed in Washington, DC, this 26th day of October, 2004.
Linda G. Poole,
Certifying Officer, Division of Trade Adjustment Assistance.

[FR Doc. E4-3147 Filed 11-10-04; 8:45 am]

BILLING CODE 4510-30-P